DEPARTMENT OF TRANSPORTATION

Federal Highway Administration

Notice of Final Federal Agency Actions on Proposed Highway in North Carolina

AGENCY: Federal Highway Administration (FHWA), DOT.

ACTION: Notice of Limitations on Claims for Judicial Review of Actions by FHWA, and Other Federal Agencies.

SUMMARY: This notice announces action taken by the FHWA and other federal agencies that is final within the meaning of 23 U.S.C. 139(l)(1). This final agency action relates to a proposed highway project, US 70 Bypass of the City of Havelock in Craven County, North Carolina. The FHWA's Record of Decision (ROD) identifies Alternative 3 for the US 70 Havelock Bypass project as the selected alternative.

DATES: By this notice, the FHWA is advising the public of final agency actions subject to 23 U.S.C. 139 (l)(1). A claim seeking judicial review of the Federal agency actions on the highway project will be barred unless the claim is filed on or before June 9, 2017. If the Federal law that authorizes judicial review of a claim provides a time period of less than 150 days for filing such claim, then that shorter time period still applies.

FOR FURTHER INFORMATION CONTACT: For FHWA: Clarence W. Coleman, P. E., Director of Preconstruction and Environment, Federal Highway Administration, North Carolina Division, 310 New Bern Avenue, Suite 410, Raleigh, North Carolina, 27601-1418; Telephone: (919) 747-7014; email: clarence.coleman@dot.gov. FHWA North Carolina Division Office's normal business hours are 8 a.m. to 5 p.m. (Eastern Time). For the North Carolina Department of Transportation (NCDOT): Rodger Rochelle, Director of Technical Services, North Carolina Department of Transportation (NCDOT), 1548 Mail Service Center, Raleigh, North Carolina 27699-1548; Telephone (919) 707-2900; email: rdrochelle@ncdot.gov. NCDOT Technical Services Division Office's normal business hours are 8 a.m. to 5 p.m. (Eastern Time).

SUPPLEMENTARY INFORMATION: Notice is hereby given that FHWA has taken final agency action by issuing a Record of Decision (ROD) for the following highway project in the State of North Carolina: US 70 Bypass, Havelock, North Carolina. The project is also known as State Transportation Improvement Program (STIP) Project R-1015.

Located in eastern North Carolina, the selected alternative consists of a freeway on new location, approximately 10.3 miles in length. The proposed freeway is located along the western edge of Havelock, primarily within the Croatan National Forest (CNF) boundaries. The project's purpose is to improve traffic operations for regional and statewide traffic along the US 70 corridor and enhance the ability of US 70 to serve a regional transportation function.

The FHWA's action, related actions by other Federal agencies and the laws under which such actions were taken, are described in the Final Environmental Impact Statement (FEIS) for the project, approved on October 27, 2015; the FHWA Record of Decision (ROD), approved on December 16, 2016; and other documents in the project file. The above documents are available for review by contacting the FHWA or the NCDOT at the addresses provided above.

This notice applies to all Federal agency decisions as of the issuance date of this notice and all laws under which such actions were taken, including but not limited to:

1. General: National Environmental Policy Act (NEPA) [42 U.S.C. 4321- 4351]; Federal-Aid Highway Act [23 U.S.C. 109 and 23 U.S.C. 128].

2. Air: Clean Air Act [42 U.S.C. 7401-7671(q)].

3. Land: Section 4(f) of the Department of Transportation Act of 1966 [49 U.S.C. 303]; Coastal Barrier Resources Act [16 U.S.C. 3501-3510].

4. Wildlife: Endangered Species Act [16 U.S.C. 1531-1544]; Marine Mammal Protection Act [16 U.S.C. 1361-1407]; Anadromous Fish Conservation Act [16 U.S.C. 757(a)-757(g)]; Fish and Wildlife Coordination Act [16 U.S.C. 661- 667(d)]; Migratory Bird Treaty Act [16 U.S.C. 703-712]; Magnuson-Stevenson Fishery Conservation and Management Act [16 U.S.C. 1801 et seq.].

5. Historic and Cultural Resources: Section 106 of the National Historic Preservation Act of 1966 [16 U.S.C. 470(f)].

6. Social and Economic: Civil Rights Act of 1964 [42 U.S.C. 2000(d)- 2000(d)(1)].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA; 42 U.S.C. 11011 et seq.); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; and E.O. 13186—Responsibilities of Federal Agencies to Protect Migratory Birds.

This notice does not apply to those pending environmental permitting decisions. (Catalog of Federal Domestic Assistance Program Number 20.205, Highway Research, Planning and Construction. The regulations implementing Executive Order 12372 regarding intergovernmental consultation on Federal programs and activities apply to this program.)

Authority: 23 U.S.C. 139(l)(1).

Issued on: December 22, 2016.
Clarence W. Coleman,
Director of Preconstruction and Environment Raleigh, North Carolina.

[FR Doc. 2017-00124 Filed 1-9-17; 8:45 am]

BILLING CODE 4910-RY-P